CHEMICAL SAFETY AND HAZARD INVESTIGATION BOARD

Senior Executive Service Performance Review Board

AGENCY: Chemical Safety and Hazard Investigation Board.

ACTION: Notice.

SUMMARY: This notice announces a change in the membership of the Senior Executive Service Performance Review Board for the Chemical Safety and Hazard Investigation Board (CSB).

DATES: Effective January 8, 2010.

FOR FURTHER INFORMATION CONTACT: Christopher Kirkpatrick, Office of General Counsel, (202) 261-7600.

SUPPLEMENTARY INFORMATION: 5 U.S.C. 4314(c)(1) requires each agency to establish, in accordance with regulations prescribed by the Office of Personnel Management, a performance review board (PRB). The PRB reviews initial performance ratings of members of the Senior Executive Service (SES) and makes recommendations as to final annual performance ratings for senior executives. Because the CSB is a small independent Federal agency, the SES members of the CSB's PRB are drawn from other Federal agencies.

The Chairperson of the CSB has appointed the following individual to the CSB Senior Executive Service Performance Review Board:

PRB Member—Gary L. Halbert, General Counsel, National Transportation Safety Board.

Mr. Halbert replaces Curtis Bowling (Director of Environmental Readiness and Safety, Office of the Secretary of Defense/Chairman, Department of Defense Explosives Safety Board). The service of Mr. Bowling on the PRB has come to a close. His appointment was originally announced in the Federal Register of November 15, 2007 (72 FR 64192).

William B. Wark (CSB Board Member) continues to serve as the Chair of the PRB, as announced in the Federal Register of November 15, 2007 (72 FR 64192). David Capozzi (Executive Director, United States Access Board) continues to serve as a Member of the PRB, as announced in the Federal Register of December 5, 2008 (73 FR 74138).

This notice is published in the Federal Register pursuant to the requirement of 5 U.S.C. 4314(c)(4).

Dated: January 4, 2010.
Christopher J. Kirkpatrick,
Attorney-Advisor.

[FR Doc. 2010-104 Filed 1-7-10; 8:45 am]

BILLING CODE 6350-01-P